DEPARTMENT OF THE INTERIOR

Bureau of Land Management

[NV-060-1430-EQ; N-77592, N-25773]

Realty Action: Lease of Public Land for Public Airport Purposes and Termination of Segregation

AGENCY: Bureau of Land Management, Interior.

ACTION: Notice of realty action.

SUMMARY: Public land in Lander County, Nevada has been found suitable for a proposed lease to the Town of Kingston, the land to be used for public airport purposes under the authority of the Federal Public Airport Act of 1928, as amended. Public land previously segregated in connection with an expired public airport lease is hereby opened to the operation of the public land laws and the mining laws.

DATES: On or before March 15, 2004, interested parties may submit comments regarding the proposed, new, public airport lease.

ADDRESSES: Written comments should be addressed to: Bureau of Land Management, Gail G. Givens, Assistant Field Manager, Battle Mountain Field Office, 50 Bastian Road, Battle Mountain, Nevada 89820.

FOR FURTHER INFORMATION CONTACT: Chuck Lahr, Realty Specialist, at the above address or telephone (775) 635-4000.

SUPPLEMENTARY INFORMATION: 1. The following described public land in Lander County, Nevada, has been examined and found suitable for a proposed lease to the Town of Kingston, the land to be used for only public airport pruposes:

Mount Diablo Meridian, Nevada,

T. 16 N., R. 44 E.,

Sec. 31, Lot 4, N½SE¼SW¼, E½NE¼SE¼, S½SW¼NE¼SE¼, S½S½NW¼SE¼. N½S½SE¼, SE¼SE¼SE¼;

containing 144.88 acres, more or less, in Lander County.

2. The above described land was previously leased for public airport purposes under BLM serial number N-25773. That lease expired by its own terms and conditions. The proposed new lease will be issued pursuant to the Act of May 24, 1928, as amended, 43 U.S.C. 1441-1443, and will be made subject to the provisions of that act, applicable regulations and all valid existing rights. The proposed lease is consistent with the BLM land use plan for the area and will serve the public interest. The public land described above was segregated by virtue of the now expired, earlier airport lease. This notice continues the segregation of the above described land from appropriation under the public land laws, including the mining laws.

3. On June 9, 1979, public land in addition to that described above was segregated for the now expired airport lease authorized under N-25773. Under the proposed new lease, the additional land will not be needed and can be opened to the operation of the public land laws and the mining laws. The additional public land is described as follows:

Mount Diablo Meridian, Nevada,

T. 16 N., R. 44 E.,

Sec. 31, S½SE¼SW¼, S½SW¼SE¼, SW¼SE¼SE¼, N½NW¼SE¼, NW¼NE¼SE¼, N½S½NW¼SE¼, N½SW¼NE¼SE¼;

Sec. 32, W½W½;

T. 15 N., R. 44 E.,

Sec. 5, Lot 4;

Sec. 6, Lot 1;

containing 350.57 acres, more or less, in Lander County.

4. At 9 a.m. on February 27, 2004, the land described immediately above will be opened to the operation of the public land laws, subject to valid existing rights, the provisions of existing withdrawals, other segregations of record, and the requirements of applicable law. All valid applications received at or prior to February 27, 2004, shall be considered as simultaneously filed at that time. Those received thereafter shall be considered in the order of filing.

5. At 9 a.m. on February 27, 2004, the land described immediately above will be opened to location and entry under the United States mining laws, subject to valid existing rights, the provisions of existing withdrawals, other segregations of record, and the requirements of applicable law. Appropriation of lands under the general mining laws prior to the date and time of restoration is unauthorized. Any such attempted appropriation, including adverse possession under 30 U.S.C. 38, shall vest no rights against the United States. Acts required to establish a location and to initiate a right of possession are governed by State law where not in conflict with Federal law. The Bureau of Land Management will not intervene in disputes between rival locators over possessory rights because Congress has provided for such determinations in local courts.

(Authority: 43 CFR 2911.2-3(a); 43 CFR 2091.4-2(b))

Dated: November 21, 2003.
Gail G. Givens,
Assistant Field Manager, Nonrenewable Resources.

[FR Doc. 04-1798 Filed 1-27-04; 8:45 am]

BILLING CODE 4310-HC-P